DEPARTMENT OF DEFENSE

Department of the Army; Corps of Engineers

Availability of the Final Environmental Impact Statement for the Platte West Water Production Facilities, Douglas and Saunders Counties, NE

AGENCY: Department of the Army, U.S. Army Corps of Engineers, DoD.

ACTION: Notice.

SUMMARY: In accordance with the National Environmental Policy Act and implementing regulations, an Environmental Impact Statement (EIS) has been prepared to disclose the environmental impacts from the Metropolitan Utilities District's (District) proposed new drinking water production facilities for the greater metropolitan area of Omaha, Nebraska. To meet peak-day demand through the year 2030, the District needs an additional maximum capacity of 100 million gallons per day (MGD). To provide for an acceptable level of water supply redundancy, the District needs an additional 62.8 MGD from a source other than the Missouri River.

FOR FURTHER INFORMATION CONTACT: For additional information and copies of this document contact Rebecca Latka, CENWO-PM-AE, U.S. Army Corps of Engineers, 106 South 15th Street, Omaha, Nebraska 68102, telephone at (402) 221-4602, or e-mail: rebecca.j.latka@usace.army.mil. Comments on this document can be addressed to Rodney Schwartz, CENWO-OD-RF, U.S. Army Corps of Engineers, 12565 W. Center Road, Omaha, Nebraska 68144-3869, telephone at (402) 22-4143, or e-mail: rodney.j.schwartz@usace. army.mil.

SUPPLEMENTARY INFORMATION: Six alternatives were selected for detailed evaluation. Each of the new water supplies would consist of one or more treatment plants and well fields. The well fields would be in the Platte River alluvial (groundwater) aquifer. The three-way combination would also include a new surface water intake on the Missouri River. All the alternatives include implementation of a water conservation plan. For all the alternatives, significant environmental impacts requiring mitigation are predicted for flow in the Platte River, wetlands, private wells, property values, and recreation.

The well fields would pump water from the Platte River alluvial aquifer, which would lower the groundwater level around the well field and reduce the flow in the river. Lowering the water table is predicted to adversely impact about 5 to 30 private wells, cause the loss of 0.6 to 14.6 acres of wetlands, potentially alter 62 to 142 acres of wetlands, and remove subirrigation from 56 to 5,069 acres of land around the well fields. The loss of subirrigation could reduce property values because of impacts to crop yield and farm income. Recreation could be impacted by the lowering of water levels in private ponds and ponds and wetlands in the Two Rivers State Recreation Area. The impacts of flow depletion in the Platte River would be mitigated by the creation of a backwater habitat. Lost wetlands would be mitigated by the creation of new wetlands. Potential altered wetlands would be monitored for over 30 years and replaced if found to be changed by operation of the well field. The District would negotiate compensation with private property owners for reductions attributed to groundwater drawdown in well performance, subirrigation, and pond water levels. Impacts to the Two Rivers State Recreation Area would be mitigated by monetary compensation to the Nebraska Game and Parks Commission and the possible opening to the public of certain District properties for limited recreational use.

A public meeting and Section 404 hearing was held March 2, 1999 in Omaha, Nebraska to obtain comments on the original Draft EIS (DEIS), which was published in January 1999. Those comments and responses were included in the revised DEIS, which was published in February 2001. A public meeting to obtain comments on the revised DEIS was held March 21, 2001, in Omaha, Nebraska. These comments are addressed in the FEIS.

Luz D. Ortiz,
Army Federal Register Liaison Officer.

[FR Doc. 02-9073 Filed 4-12-02; 8:45 am]

BILLING CODE 3710-62-M